DEPARTMENT OF ENERGY

Senior Executive Service; Performance Review Board

AGENCY: U.S. Department of Energy.

ACTION: Designation of Performance Review Board Chair.

SUMMARY: This notice provides the Performance Review Board Chair designee for the Department of Energy.

DATES: This appointment is effective as of September 30, 2012.

Susan F. Beard

Issued in Washington, DC, October 18, 2012.
Sarah J. Bonilla,
Acting Chief Human Capital Officer, Office of the Chief Human Capital Officer.

[FR Doc. 2012-26188 Filed 10-23-12; 8:45 am]

BILLING CODE 6450-01-P